NUCLEAR REGULATORY COMMISSION

[EA-09-001; NRC-2009-0017]

In the Matter of Certain General Material Licensees; Demand for Information

I

The Nuclear Regulatory Commission (NRC or Commission) is issuing this Demand for Information because it is our understanding that you possess radioactive material in the form of tritium in exit signs. Because you possess radioactive material in this form, you hold what is referred to as a “general license” to possess such material. In this case, your general license has been issued by the NRC pursuant to section 31.5 in Part 10 of the Code of Federal Regulations (10 CFR 31.5). This general license authorizes you, the licensee, to receive, possess, use, or transfer, in accordance with the provisions of paragraphs (b), (c) and (d) of 10 CFR 31.5, radioactive material contained in devices designed and manufactured for the purpose of producing light.

II

On December 7, 2006, NRC issued Regulatory Issue Summary (RIS) 2006-25, “Requirements for the Distribution and Possession of Tritium Exit Signs and the Requirements in 10 CFR 31.5 and 32.51a.” This RIS was issued in part to remind general licensees of the requirements in 10 CFR 31.5 regarding transfer and disposal of tritium exit signs. It was NRC's intent that issuance of this RIS would minimize the chances of improper disposal of tritium exit signs.

Despite the publication of the RIS in 2006, NRC has reason to believe that certain general licensees may lack awareness of their responsibility to account for and properly dispose of tritium exit signs. Therefore, the NRC needs further information to determine whether we can have reasonable assurance that general licensees are complying with NRC regulations applying to the possession, transfer, and disposal of tritium exit signs.

III

Accordingly, pursuant to sections 161c, 161o, 182 and 186 of the Atomic Energy Act of 1954, as amended, and the Commission's regulations in 10 CFR 2.204 and 10 CFR 31.5, the NRC seeks information in order to determine whether additional regulatory action should be taken to ensure compliance with NRC requirements. Within 60 days of the date of this Demand for Information, you must submit a written answer to the Director, Office of Federal and State Materials and Environmental Management Programs, U.S. Nuclear Regulatory Commission, Washington, DC 20555-0001. Your answer must be submitted under oath or affirmation, and it must provide the following information:

A. Explain how you ensure compliance with the NRC requirements applying to the possession, transfer, and disposal of tritium exit signs you have acquired. Identify and provide contact information for the individual you have appointed who is responsible for ensuring day-to-day compliance with these requirements.

B. State the number of tritium exit signs you currently possess and the number of signs that, according to your records, should be in your possession.

C. Explain the reasons for any discrepancy between the number of tritium exit signs you currently possess and the number of signs that should be in your possession.

D. Describe any actions you have taken, or plan to take, to locate tritium exit signs that should be, but are not, in your possession.

E. Describe any actions you have taken, or plan to take, to prevent future losses of tritium exit signs.

After reviewing your response, the NRC will determine whether further action is necessary to ensure compliance with regulatory requirements.

The Director, Office of Federal and State Materials and Environmental Management Programs, may, in writing, relax or rescind any of the above conditions upon demonstration by the Licensee of good cause, such as a particularly large number of signs spread over multiple locations. If you believe you cannot report the results within the 60-day deadline, you may forward a request to extend the deadline. Extensions will be granted if you can reasonably demonstrate an inability to meet the deadline. Additionally, any other requirement can be relaxed or rescinded, as long as you can reasonably demonstrate why that requirement should be relaxed or rescinded. Such requests may be e-mailed to MSEA@nrc.gov or faxed to Angela McIntosh at (301) 415-5955. Questions about this Demand for Information may be referred to Tritium Exit Sign Inventory Support at (301) 415-3340.

Send responses to: Director, Office of Federal and State Materials and Environmental Management Programs, Attention: Angela R. McIntosh, Mail Stop T8-E24, U.S. Nuclear Regulatory Commission, Washington, DC 20555.

Dated this 16th day of January 2009.
For the Nuclear Regulatory Commission.
Cynthia A. Carpenter,
Director, Office of Enforcement.

Attachment 1—List of General Material Licensees

Church of Jesus Christ of Latter Day Saints, 50 E Temple St., Salt Lake City, UT 84150.

Eli Lilly, Lilly Corporate Center, 893 S. Delaware, Indianapolis, IN 46285.

Home Depot, Attention: Ryan Williams, 2455 Paces Ferry Rd., SE., Atlanta, GA 30339.

Federal Corrections, Attention: RADM Newton E. Kendig, Assistant Director, Health Services Division, 320 First St., NW., Washington, DC 20534.

Department of the Air Force, Attn: Robert A. Rodgers, Maj, USAF, BSC, USAF Radioisotope Committee, HQ AFMOA/SG3PR, 110 Luke Ave., Suite 405, Bowling AFB, Washington, DC 20322-7050.

Chief of Naval Operations, Environment Protection Division (N45), Radiological Controls and Health, Office of Chief of Naval Operations (N455), Attention: CAPT Lino Fragoso, PhD, RSO, 2000 Navy Pentagon (NC-1 Suite 2000), Washington, DC 20350-2000.

Department of the Army, Army Material Command, Director of Army Radiation Safety, Attention: Greg Komp, RSO, 223 23rd Street, Suite 980, Arlington, VA 22060-5527.

United States Army Garrison-Rock Island Arsenal, IMWE-RIA-ZA Bldg 90, 1 Rock Island Arsenal, Rock Island, IL 61299-5000.

Honeywell International Inc., Attention: Peter Jungfer, 101 Columbia Road, Morristown, NJ 07962.

Stusser Electric Co., Dave Lockwood, 411 E. 54th Ave., Anchorage, AK 99518.

Herb Stevens Labor & Industry Building, John Fitch Plaza, Room 209, Trenton, NJ 08625.

Nassau Electric, 106 Black Horse Pike, West Collingswood Heights, NJ 08059.

Alton Iron Works Inc, 1475 Palisado Ave., Windsor, CT 06095.

University of Alaska, Dr. Ivan va Tets, RSC Chairman, 3211 Providence Drive, Anchorage, AK 99508.

Giant Food, Landover Corporate Headquarters, 8301 Professional Place, Suite 115, Landover, MD 20785.

Bed Bath and Beyond, Attention: Michael Wilck, 650 Liberty Ave., Union, NJ 07083.

U.S. General Services Administration, 1800 F Street, NW., Washington, DC 20405.

Department of Veterans Affairs, E. Lynn McGuire, Director, NHPP (115HP-NLR), Veterans Health Administration, 2200 Fort Roots Drive North, Little Rock, AR 72114-1706.

Middlebury College, Ed Sullivan, Environ. Health & Safety, Coordinator, 161 Adirondack View, Middlebury, VT 05753.

State Farm Insurance, Attn: Mike Devore, One State Farm Plaza, E-4, Bloomington, IL 61710.

Dupont, 1007 N. Market St., Attention: Leo Hamilton, Rm D-6088, Wilmington, DE 19898.

Anchorage School District, Carol Comeau, Superintendent, 5530 E Northern Lights Blvd., Anchorage, AK 99504-3135.

AMC Theaters, 920 Main Street, #1400, Kansas City, MO 64105.

AMR Corporation, Capt. Al Madar, Director of Safety, 4333 Amon Carter Blvd., Fort Worth, TX 76155.

Federated Retail Holdings, Inc., Elena Pharr, Environmental Services Manager, 7 West Seventh Street, 15th Floor, Cincinnati, OH 45202.

Helicopter Support, Inc., Attn: Carmen Jausel, Director, Environmental Health, 124 Quarry Road, Trumbull, CT 06611.

Avon Community Schools Corporation, Attn: Brock Bowsher, 7203 East U.S. Highway 36, Avon, IN 46123.

S.A.S. Technical Forwarding Dept., 150 Newark Intl. Airport, Newark, NJ 07114.

MEMC Electronic Materials, Inc., 501 Pearl Drive (City of O'Fallon), St. Peters, MO 63376.

United States Postal Service, Carolyn C. Cole, Manager, Energy Initiatives, 475 L'Enfant Plaza, SW., Washington, DC 20260.

Northwest Airlines, Inc., Attention: Kenneth J. Hylander, 2700 Lone Oak Pky., Eagan, MN 55121.

Smithsonian Institution, 1000 Jefferson Dr., SW., Washington, DC 20560.

Defense General Supply Center, 8000 Jefferson Davis Highway, Richmond, VA 23297-5100.

Feldman Electric, 210 Spanglers Mill Rd., New Cumberland, PA 17070.

Outrigger Hotel, Attn: David Lee, Vice President Property Services, 2375 Kuhio Avenue, Honolulu, HI 96815-2992.

Dominion Virginia Power, Attn: Peter Moss, P.O. Box 26532, Richmond, VA 23261-6532.

Goodrich Corporation, Attn: Dennis Hussey, 2730 W Tyvola Rd #600, Charlotte, NC 28217.

Thomson Tinos, 101 West 103rd Street, Indianapolis, IN 46290-1102.

State of Alaska, Dept. of Health & Social Services, Division of Public Health, Section of Laboratories, Radiological Health Program, 4500 Boniface Parkway, Anchorage, AK 99507-1270.

United States Coast Guard, 2100 Second Street, SW., Washington, DC 20024.

Atlantic Aviation, 6504 International Pkwy #2400, Plano, TX 75093.

Military Academy, West Point, Attn: Keith Katz, Safety, 667A Ruger Road, West Point, NY 10996.

NASA Headquarters, Attn: Marla Newstadt, 300 E St., SW., Code LM031, Washington, DC 20546.

Air Cruisers Company, 1740 Highway 34 N., Wall, NJ 07719.

Pacific Electric Sales Agency, 541 Ahui Street, Honolulu, HI 96813.

Wallens Ridge Prison, Attn: Adam Harvey Assistant Warden, 272 Dogwood Drive, P.O. Box 759, Big Stone Gap, VA 24219.

[FR Doc. E9-1680 Filed 1-26-09; 8:45 am]

BILLING CODE 7590-01-P